DEPARTMENT OF ENERGY

U.S. Energy Information Administration

Agency Information Collection Extension

AGENCY: U.S. Energy Information Administration (EIA), U.S. Department of Energy (DOE).

ACTION: Notice.

SUMMARY: EIA submitted an information collection request for extension as required by the Paperwork Reduction Act of 1995. The information collection requests a three-year extension, with no changes, of its Uranium Data Program, OMB Control Number 1905-0160. The Uranium Data Program collects data on domestic uranium supply and demand activities, including production, exploration and development, trade, purchases and sales available to the U.S. The users of these data include Congress, Executive Branch agencies, the nuclear and uranium industry, electric power industry, and the public.

DATES: Comments on this information collection must be received no later than May 25, 2018. If you anticipate any difficulties in submitting your comments by the deadline, contact the DOE Desk Officer at 202-395-4718.

ADDRESSES: Written comments should be sent to DOE Desk Officer: James Tyree, Office of Information and Regulatory Affairs, Office of Management and Budget, New Executive Office Building, Room 9249, 735 17th Street NW, Washington, DC 20503, James.N.Tyree@omb.eop.gov and to Tim Shear, U.S. Department of Energy, U.S. Energy Information Administration, 1000 Independence Ave. SW, Washington, DC 20585, Uranium2018@eia.gov.

FOR FURTHER INFORMATION CONTACT: Requests for additional information or copies of the information collection instrument and instructions, send your request to Tim Shear at 202-586-0403 or email it to Tim.Shear@eia.gov. You can view Form EIA-851A Domestic Uranium Production Report (Annual), Form EIA-851Q Domestic Uranium Production Report (Quarterly), and Form EIA-858 Uranium Marketing Annual Survey online at https://www.eia.gov/survey.

SUPPLEMENTARY INFORMATION:

This information collection request contains:

(1) OMB No. 1905-0160;

(2) Information Collection Request Title: Uranium Data Program;

(3) Type of Request: Three-year extension;

(4) Purpose: The Uranium Data Program includes three forms. Form EIA-851A collects annual data from the U.S. uranium industry on uranium milling and processing, uranium feed sources, uranium mining, employment, drilling, expenditures, and uranium reserves. Form EIA-851Q collects monthly data from the U.S. uranium industry on uranium production and sources (mines and other) and is published on a quarterly basis. Form EIA-858 collects annual data from the U.S. uranium market on uranium contracts and deliveries, inventories, enrichment services purchased, uranium in fuel assemblies, feed deliveries to enrichers, and existing unfilled market requirements for the current year and the following ten years.

(5) Annual Estimated Number of Respondents: 124;

(6) Annual Estimated Number of Total Responses: 169;

(7) Annual Estimated Number of Burden Hours: 1,200;

(8) Annual Estimated Reporting and Recordkeeping Cost Burden: The cost of the burden hours is estimated to be $90,828 (1,200 burden hours times $75.69 per hour). EIA estimates that there are no additional costs to respondents associated with the surveys other than the costs associated with the burden hours.

Statutory Authority: Section 13(b) of the Federal Energy Administration Act of 1974, Pub. L. 93-275, codified as 15 U.S.C. 772(b) and the DOE Organization Act of 1977, Pub. L. 95-91, codified at 42 U.S.C. 7101 et seq.

Issued in Washington, DC, on April 17, 2018.
Nanda Srinivasan
Director, Office of Survey Development and Statistical Integration U. S. Energy Information Administration.

[FR Doc. 2018-08696 Filed 4-24-18; 8:45 am]

BILLING CODE 6450-01-P